DEPARTMENT OF TRANSPORTATION

Maritime Administration

Marine Highway Projects

ACTION: Solicitation of applications for Marine highway projects.

SUMMARY: The Department of Transportation is soliciting applications for Marine Highway Projects as specified in the America's Marine Highway Program Final Rule, MARAD-2010-0035, published in the Federal Register on April 9, 2010. These applications must comply with the requirements of the referenced America's Marine Highway Program Final Rule, and be submitted in accordance with the instructions contained in that Final Rule. This application period begins immediately upon publication of this notice and is open through June 11, 2010.

FOR FURTHER INFORMATION CONTACT: Michael Gordon, Office of Intermodal System Development, Marine Highways and Passenger Services, at (202) 366-5468, via e-mail at michael.gordon@dot.gov, or by writing to the Office of Marine Highways and Passenger Services, MAR-520, Suite W21-315, 1200 New Jersey Avenue, SE., Washington, DC 20590.

Dated: April 9, 2010.
Christine Gurland,
Secretary, Maritime Administration.

[FR Doc. 2010-8619 Filed 4-14-10; 8:45 am]

BILLING CODE 4910-81-P